DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Obligated Service for Mental Health Traineeships: Regulations (42 CFR Part 62a) and Forms—(Extension; OMB No. 0930-0074)—SAMHSA's Center for Mental Health Services (CMHS) awards grants to institutions for training instruction and traineeships in mental health and related disciplines. Graduate student recipients of these clinical traineeships must perform service, as determined by the Secretary to be appropriate in terms of the individual's training and experience, for a length of time equal to the period of support. The clinical trainees are required to submit SAMHSA Form SMA 111, a payback agreement, SAMHSA Form 111-1, which ensures agency receipt of a termination notice prior to the end of support, and the SAMHSA Form SMA 111-2, which is an annual report on employment status and any changes in name and/or address, to SAMHSA. The annual burden estimate is provided below.

42 CFR Section | No. of respondents | No. of responses/respondent | Hours per response | Total burden hours
64a.104(a-b),(c)(1)—Termination Notice and Exit Interview (Form SMA 111) | 100 | 1 | .25 | 25
64a.104(c)(2,3)—Payback Agreement and Entrance Interview (Form SMA 111-1) | 100 | 1 | .25 | 25
64a.105(b)(2)Annual Payback Activities Certification (Form SMA 111-2 | 700 | 1 | .18 | 126
Total burden | 900 |  |  | 176

Written comments and recommendations concerning the proposed information collection should be sent within 30 days of this notice to: Stuart Shapiro, Human Resources and Housing Branch, Office of Management and Budget, New Executive Office Building, Room 10235, Washington, DC 20503.

Dated: January 12, 2001.
Richard Kopanda,
Executive Officer, SAMHSA.

[FR Doc. 01-1593 Filed 1-19-01; 8:45 am]

BILLING CODE 4162-20-P